CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Commission Support Grant Grantee Progress Report (GPR). All State Commissions are required to complete a mid-year GPR, which is due in July and an end-of-year GPR, which is due in January. The GPR provides information for CNCS staff to monitor grantee progress and to respond to requests from Congress and other stakeholders.

Copies of the information collection request can be obtained by contacting the office listed in the Addresses section of this notice.

DATES: Written comments must be submitted to the individual and office listed in the ADDRESSES section by October 3, 2014.

ADDRESSES: You may submit comments, identified by the title of the information collection activity, by any of the following methods:

(1) By mail sent to: Corporation for National and Community Service, AmeriCorps State and National, Attention Carla Ganiel, Senior Program and Project Specialist, Room 9517B, 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: 202-606-3476, Attention: Carla Ganiel, Senior Program and Project Specialist.

(4) Electronically through www.regulations.gov.

Individuals who use a telecommunications device for the deaf (TTY-TDD) may call 1-800-833-3722 between 8:00 a.m. and 8:00 p.m. Eastern Time, Monday through Friday.

FOR FURTHER INFORMATION CONTACT: Carla Ganiel, 202-606-6773, or by email at cganiel@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

All State Commission grantees complete the GPR, which provides information for CNCS staff to monitor grantee progress and to respond to requests from Congress and other stakeholders. The information is collected electronically through the eGrants system.

Current Action

This is a new instrument that will become part of the Commission Support Application information collection request 3045-0099.

Type of Review: Renewal.

Agency: Corporation for National and Community Service.

Title: Grantee Progress Report.

OMB Number: 3045-0099.

Agency Number: None.

Affected Public: AmeriCorps State and National grantees.

Total Respondents: 53.

Frequency: Semi-Annual.

Average Time Per Response: 6.5 hours per submission.

Estimated Total Burden Hours: 689.

Total Burden Cost (capital/startup): None.

Total Burden Cost (operating/maintenance): None.

Comments submitted in response to this notice will be summarized and/or included in the request for Office of Management and Budget approval of the information collection request; they will also become a matter of public record.

Dated: July 29, 2014.
Bill Basl,
Director, AmeriCorps State and National.

[FR Doc. 2014-18321 Filed 8-1-14; 8:45 am]

BILLING CODE 6050-28-P